DEPARTMENT OF HOMELAND SECURITY

Office of the Secretary

[DHS-2006-0019]

Data Privacy and Integrity Advisory Committee

AGENCY: Office of the Secretary, Department of Homeland Security.

ACTION: Notice of Federal advisory committee meeting.

SUMMARY: The notice announces the date, time, location, and agenda for the next meeting of the Department of Homeland Security Data Privacy and Integrity Advisory Committee. This meeting will be open to the public, with the exception of a one-hour administrative session.

DATES: The meeting will be held on Wednesday, June 7, 2006, in San Francisco, CA.

ADDRESSES: The Department of Homeland Security Data Privacy and Integrity Advisory Committee meeting will be held in the Rita and Ava Room at the Clift Hotel, 495 Geary Street, San Francisco, CA 94102. Persons wishing to make comments or who are unable to attend or speak at the meeting may submit comments at any time. Comments must be identified by DHS-2006-0019 and may be submitted by any one of the following methods:

• Federal Rulemaking Portal: http://www.regulations.gov. Follow instructions for submitting comments on the Web site.

• E-mail: PrivacyCommittee@dhs.gov. Include docket number in the subject line of the message.

• Fax: 571-227-4171.

• Mail: Ms. Rebecca J. Richards, Executive Director, Data Privacy and Integrity Advisory Committee, Department of Homeland Security, Mail Stop D-3, Arlington, VA 22202.

Instructions: All submissions received must include the Department of Homeland Security and DHS-2006-0019, the docket number for this action. Comments received will also be posted without alteration at www.regulations.gov, including any personal information provided.

Docket: For access to the docket to read background documents or comments received by the DHS Data Privacy and Integrity Committee, go to http://www.regulations.gov. Comments received will be posted without alteration at www.dhs.gov/privacy, including any personal information provided.

FOR FURTHER INFORMATION CONTACT: Maureen Cooney, Acting Chief Privacy Officer and Chief Freedom of Information Act Officer, or Rebecca J. Richards, Executive Director, Data Privacy and Integrity Advisory Committee, Department of Homeland Security, Arlington, VA 22202, by telephone (571) 227-3813, by facsimile (571) 227-4171, or by e-mail PrivacyCommittee@dhs.gov.

SUPPLEMENTARY INFORMATION: The Data Privacy and Integrity Advisory Committee (“Privacy Advisory Committee”) will be meeting on Wednesday, June 7, 2006, in the Rita and Ava Rooms at the Clift Hotel, 495 Geary Street, San Francisco, CA 94102. The meeting will begin at 8:30 a.m. and is anticipated to end at 5 p.m. Although most of the meeting is open to the public, there will be a closed session between 12 p.m. and 1 p.m., in order to permit the Privacy Advisory Committee members to discuss administrative and planning items.

At the meeting, the Acting Chief Privacy Officer and Chief Freedom of Information Act Officer will provide an update on the activities of the Privacy Office. The subcommittees on Emerging Applications and Technology, Data Sharing and Usage, Framework, and Screening will update the Committee on the work currently being conducted. In the morning and afternoon sessions, invited speakers will discuss expectations of privacy in public spaces and identity management. An agenda will be posted on the Privacy Committee Web site at http://www.dhs.gov/privacy prior to the meeting.

The Committee is researching effective means to receive public comments during their public meetings. As an experiment, for the June 7, 2006 meeting, comments will be accepted for a “Public Comment Panel” starting at or about 4 p.m. This panel will be made up of no more than four individuals; each will be allotted 15 minutes to speak. In order to be considered for the Public Comment Panel, individuals must provide a written request to Rebecca J. Richards via e-mail at PrivacyCommittee@dhs.gov no later than Friday, May 26, 2006 with the following information:

(1) A brief biographical description, including name and affiliation;

(2) A list of the topic(s) that the potential panelist would like to address, and a one-paragraph summary of the potential panelist's unique perspective or knowledge of each such topic; and

(3) Contact information, including a daytime telephone number, and e-mail address.

The Executive Director, in consultation with the Chair, Vice Chair, and subcommittee Chairs of the Committee will choose the panelists based upon the written submissions. The Executive Director will notify the panelists chosen for the Public Comment Panel both via e-mail and through the Committee's Web site.

Public attendance is encouraged. Any member of the public who wishes to attend the public session is requested to provide his or her name no later than 12:00 p.m. EST, Friday, June 2, 2006, to Rebecca J. Richards via e-mail at PrivacyCommittee@dhs.gov, or via telephone at (571) 227-3813. This will assist with the preparation of meeting materials and seating arrangements. Everyone who plans to attend is respectfully requested to be present and seated by 8:15 a.m. for the morning session and by 12:45 p.m. for the afternoon session.

Persons with disabilities who require special assistance should indicate this in their admittance request and are encouraged to identify anticipated special needs as early as possible.

Although every effort will be made to accommodate all members of the public, seating is limited and will be allocated on a first-come, first-served basis.

Basis for Closure

A portion of this Committee meeting will be closed for administrative and planning purposes that are referenced above. The closed portion is excluded from the Open Meetings requirement, pursuant to the authority contained in 41 CFR 102-3.160(b).

Dated: May 4, 2006.
Maureen Cooney,
Acting Chief Privacy Officer.

[FR Doc. E6-7147 Filed 5-9-06; 8:45 am]

BILLING CODE 4410-10-P